DEPARTMENT OF LABOR

Employment and Training Administration

[TA-W-64,010; TA-W-64,010A; TA-W-64,010B; TA-W-64,010C; TA-W-64,010D]

Blue Water Automotive Systems, Incorporated, Including On-Site Leased Workers From Sentech Services, Inc., Marysville, MI; Blue Water Automotive Systems, Incorporated, 315 S. Whiting Street, Including On-Site Leased Workers From Sentech Services, Inc. and Qualified Staffing Services, St. Clair, MI; Blue Water Automotive Systems, Incorporated, 2015 S. Range Road, Including On-Site Leased Workers From Sentech Services, Inc. and Qualified Staffing Services, St. Clair, MI; Blue Water Automotive Systems, Incorporated, Including On-Site Leased Workers From Sentech Services, Inc. and Qualified Staffing Services, Port Huron, MI; Blue Water Automotive Systems, Incorporated, 2000 Christian B. Haas Drive, Including On-Site Leased Workers From Sentech Services, Inc. and Qualified Staffing Services, St. Clair, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 10, 2008, applicable to workers of Blue Water Automotive Systems, Incorporated, Marysville, Michigan, 315 S. Whiting Street, St. Clair, Michigan, 2015 S. Range Road, St. Clair, Michigan, Port Huron, Michigan and 2000 Christian B. Haas Drive, St. Clair, Michigan. The notice was published in the Federal Register on December 1, 2008 (73 FR 72847).

At the request of the State agency, the Department reviewed the certification for workers of the subject firm. The workers are engaged in the production of plastic interior automotive parts.

New information shows that workers leased from Sentech Services, Inc. were employed on-site at the Marysville, Michigan, the above three St. Clair, Michigan locations and the Port Huron, Michigan locations of Blue Water Automotive Systems, Incorporated. Workers leased from Qualified Staffing Services were employed on-site at the above three St. Clair, Michigan locations and Port Huron, Michigan locations of the subject firm. The Department has determined that these workers were sufficiently under the control of Blue Water Automotive Systems, Incorporated to be considered leased workers.

Based on these findings, the Department is amending this certification to include workers leased from Sentech Services, Inc. and Qualified Staffing Services working on-site at the above mentioned locations of the subject firm.

The intent of the Department's certification is to include all workers employed at Blue Water Automotive Systems, Incorporated, at the above mentioned locations who were adversely affected by a shift in production of plastic interior automotive parts to Mexico and Canada.

The amended notice applicable to TA-W-64,010, TA-W-64,010A, TA-W-64,010B, TA-W-64,010C and TA-W-64,010D are hereby issued as follows:

“All workers of Blue Water Automotive Systems, Incorporated, including on-site leased workers from Sentech Services, Inc., Marysville, Michigan (TA-W-64,010), Blue Water Automotive Systems, Incorporated, 315 S. Whiting Street, including on-site leased workers from Sentech Services, Inc., and Qualified Staffing Services, St. Clair, Michigan (TA-W-64,010A), Blue Water Automotive Systems, Incorporated, 2015 S. Range Road, including on-site leased workers from Sentech Services, Inc., and Qualified Staffing Services, St. Clair, Michigan (TA-W-64,010B), Blue Water Automotive Systems, Incorporated, including on-site leased workers from Sentech Services, Inc., and Qualified Staffing Services, Port Huron, Michigan (TA-W-64,010C), and Blue Water Automotive Systems, Incorporated, 2000 Christian B. Haas Drive, including on-site leased workers from Sentech Services, Inc., and Qualified Staffing Services, St. Clair, Michigan, who became totally or partially separated from employment on or after September 8, 2007, through November 10, 2010, are eligible to apply for adjustment assistance under Section 223 of the Trade Act of 1974, and are also eligible to apply for alternative trade adjustment assistance under Section 246 of the Trade Act of 1974.”

Signed at Washington, DC this 17th day of December 2008.
Linda G. Poole,
Certifying Officer, Division of Trade Adjustment Assistance.

[FR Doc. E8-30916 Filed 12-29-08; 8:45 am]

BILLING CODE 4510-FN-P